DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held April 29, 2004 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• April 29:

• Opening Session (Welcome and Introductory remarks, Review/Approve Summary of Previous Meeting)

• Publication Consideration/Approval.

• Final Draft, Revised DO-267, Minimum Aviation System Performance Standards (MASPS) for Flight Information Service—Broadcast (FIS-B) Data Link, RTCA Paper No. 050-04/PMC-315, prepared by SC-195.

• Final Draft, Safety and Performance Requirements Standard for Air Traffic Data Link Services in Continental Airspace (Continental SPR Standard). RTCA Paper No. 051-04/PMC-316, prepared by SC-189.

• Discussion:

• Special Committee 147, Traffic Alert and Collision Avoidance (TCAS)

• Discuss/Approve Revised Terms of Reference

• Discuss/Approve Committee Leadership

• Special Committee 186, Automatic Dependent Surveillance-Broadcast

• Discuss/Approve Terms of Reference

• Special Committee 201, Aeronautical Operational Control (AOC) Message Hazard Mitigation (AMHM)

• Discuss/Approve Committee Leadership

• Special Committee Chairman's Report

• Action Item Review:

• Review/Status—All open auction items

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 31, 2004.
Robert Zoldos,
FAA System Engineer, RTCA Advisory Committee.

[FR Doc. 04-8819 Filed 4-16-04; 8:45 am]

BILLING CODE 4910-13-M